ENVIRONMENTAL PROTECTION AGENCY

[ER-FRL-9026-7]

Environmental Impact Statements; Notice of Availability

Responsible Agency: Office of Federal Activities, General Information (202) 564-7146 or http://www2.epa.gov/nepa.

Weekly receipt of Environmental Impact Statements

Filed 04/18/2016 Through 04/22/2016

Pursuant to 40 CFR 1506.9.

Notice

Section 309(a) of the Clean Air Act requires that EPA make public its comments on EISs issued by other Federal agencies. EPA's comment letters on EISs are available at: http://www.epa.gov/compliance/nepa/eisdata.html.

EIS No. 20160082, Draft, NPS, CA, Vista Grande Drainage Basin Improvement Project, Comment Period Ends: 07/01/2016, Contact: Steven Ortega 415-561-4955

EIS No. 20160083, Final, USACE, TX, Surface Coal and Lignite Mining, Review Period Ends: 05/31/2016, Contact: Darvin Messer 817-886-1744

EIS No. 20160084, Final, USACE, NC, Town of Ocean Isle Beach Shoreline Management Project, Review Period Ends: 05/31/2016, Contact: Tyler Crumbley 910-251-4170

EIS No. 20160085, Draft, USFWS, WY, Eagle Take Permits for the Chokecherry and Sierra Madre Phase I Wind Energy Project, Comment Period Ends: 06/27/2016, Contact: Louise Galiher 303-236-8677

EIS No. 20160086, Draft, Caltrans, CA, Interstate 10 Corridor Project, Comment Period Ends: 06/13/2016, Contact: Aaron Burton 909-383-2841

EIS No. 20160087, Draft, USACE, SC, Navy Base Intermodal Container Transfer Facility, North Charleston, Comment Period Ends: 06/13/2016, Contact: Dr. Richard L. Darden 843-329-8043

EIS No. 20160088, Final, USFS, CA, Rim Fire Reforestation, Review Period Ends: 06/13/2016, Contact: Maria Benech (209) 532-3671

EIS No. 20160089, Draft, FERC, OH, Leach and Rayne Xpress Expansion Projects, Comment Period Ends: 06/13/2016, Contact: Juan Polit 202-502-8652

EIS No. 20160090, Final, NRC, PA, Combined License for the Bell Bend Nuclear Power Plant, Review Period Ends: 05/31/2016, Contact: Tomeka Terry 301-415-1488

Amended Notices

EIS No. 20160062, Draft, ARS, ID, U.S. Sheep Experiment Station Grazing and Associated Activities Project, Comment Period Ends: 06/16/2016, Contact: Christine Handler 559-920-2188, Revision to the FR Notice Published; Extending the Comment Period from 05/02/2016 to 06/16/2016

Dated: April 26, 2016.
Karin Leff,
Acting Director, NEPA Compliance Division, Office of Federal Activities.

[FR Doc. 2016-10078 Filed 4-28-16; 8:45 am]

BILLING CODE 6560-50-P